COMMISSION ON CIVIL RIGHTS

Agenda and Notice of Public Meeting of the North Dakota Advisory Committee

Notice is hereby given, pursuant to the provisions of the rules and regulations of the U.S. Commission on Civil Rights, that a community forum of the North Dakota Advisory Committee to the Commission will convene at 8:45 a.m. and adjourn at 12:45 p.m. on Thursday, May 23, 2002, at the Radisson, 201 5th Street North Fargo, North Dakota 58102. The purpose of the community forum is to hear presentations from representatives of state and local agencies and community organizations concerning refugee and immigrant issues affecting Fargo.

Persons desiring additional information, or planning a presentation to the Committee, should contact, John Dulles, Director of the Rocky Mountain Regional Office, 303-866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, April 19, 2002.
Ivy L. Davis,
Chief, Regional Programs Coordination Unit.

[FR Doc. 02-10291 Filed 4-25-02; 8:45 am]

BILLING CODE 6335-01-P